DEPARTMENT OF AGRICULTURE

Forest Service

Quartz Gold Project; Idaho Panhandle National Forests, Benewah and Latah Counties, ID

AGENCY: Forest Service, USDA.

ACTION: Cancellation of Notice of Intent to prepare an Environmental Impact Statement.

SUMMARY: A Notice of Intent to prepare an Environmental Impact Statement for the Quartz Gold Project was published in the Federal Register on May 15, 2003 (Volume 68, Number 94) on pages 26283-26284. The proposed action and the purpose and need for the proposed action have changed substantially, so the project is cancelled. A letter was sent to addresses on the mailing list explaining the changes in the project. The responsible official is Forest Supervisor, Idaho Panhandle National Forests, 3815 Schreiber Way, Coeur d'Alene, ID 83815.

FOR FURTHER INFORMATION CONTACT: Cornie Hudson, St. Joe Ranger District, 222 S 7th Street, Suite 1, St. Maries, ID 83861.

Dated: February 22, 2005.
Ranotta McNair,
Forest Supervisor, Idaho Panhandle National Forests.

[FR Doc. 05-3893 Filed 2-28-05; 8:45 am]

BILLING CODE 3410-11-M